DEPARTMENT OF COMMERCE

International Trade Administration

[A-469-817]

Ripe Olives From Spain: Final Results of Antidumping Duty Administrative Review and Final Determination of No Shipments; 2020-2021

AGENCY: Enforcement and Compliance, International Trade Administration, Department of Commerce.

SUMMARY: The U.S. Department of Commerce (Commerce) determines that producers or exporters subject to this administrative review made sales of subject merchandise at less than normal value during the period of review (POR), August 1, 2020, through July 31, 2021. We further determine that Alimentary Group Dcoop S. Coop. And. (Dcoop) had no shipments during the POR.

DATES: Applicable December 9, 2022.

FOR FURTHER INFORMATION CONTACT: Bryan Hansen or Claudia Cott, AD/CVD Operations, Office I, Enforcement and Compliance, International Trade Administration, U.S. Department of Commerce, 1401 Constitution Avenue NW, Washington, DC 20230; telephone: (202) 482-3683 or (202) 482-4270, respectively.

SUPPLEMENTARY INFORMATION:

Background

On June 8, 2022, Commerce published the preliminary results of the 2020-2021 administrative review of the antidumping duty order on ripe olives from Spain.¹ This administrative review covers five producers or exporters of the subject merchandise, including the two mandatory respondents, Agro Sevilla Aceitunas, S. Coop. And. (Agro Sevilla), and Angel Camacho Alimentacion, S.L. (Camacho). We invited interested parties to comment on the Preliminary Results.² On July 8, 2022, we received case briefs from the domestic interested party, Musco Family Olive Company (Musco), and from the mandatory respondents, Agro Sevilla and Camacho.³ On July 15, 2022, Agro Sevilla and Camacho submitted rebuttal briefs.⁴ On September 12, 2022, Commerce extended the deadline for the final results by 60 days to December 5, 2022.⁵ Commerce conducted this review in accordance with section 751(a)(1)(B) of the Tariff Act of 1930, as amended (the Act).

¹ See Ripe Olives from Spain: Preliminary Results of Antidumping Duty Administrative Review and Preliminary Determination of No Shipments; 2020-2021, 87 FR 34841 (June 8, 2022) (Preliminary Results), and accompanying Preliminary Decision Memorandum.

² See Preliminary Results, 87 FR at 34842.

³ See Musco's Letters, “Ripe Olives from Spain; 3rd Administrative Review Musco Case Brief Concerning Agro Sevilla,” dated July 8, 2022; and “Ripe Olives from Spain; 3rd Administrative Review Musco Case Brief Concerning Camacho,” dated July 8, 2022; see also Agro Sevilla's Letter, “Case Brief of Agro Sevilla Aceitunas S.Coop Andalusia and its Affiliated Importer, Agro Sevilla USA Ripe Olives From Spain (POR3: 08/01/2020-07/31/2021),” dated July 8, 2022; Camacho's Letter, “Camacho's Letter in Lieu of Case Brief Ripe Olives From Spain (08/01/2020-07/31/2021),” dated July 8, 2022.

⁴ See Agro Sevilla's Letter, “Rebuttal Brief of Agro Sevilla Aceitunas S.Coop Andalusia and its Affiliated Importer, Agro Sevilla USA Ripe Olives From Spain (POR3: 08/01/2020-07/31/2021),” dated July 15, 2022; see also Camacho's Letter, “Camacho's Rebuttal Brief Ripe Olives From Spain (POR3: 08/01/2020-07/31/2021),” dated July 15, 2022.

⁵ See Memorandum, “Ripe Olives from Spain: Extension of Deadline for Final Results of Antidumping Duty Administrative Review; 2020-2021,” dated September 12, 2022.

Scope of the Order ⁶

⁶ See Ripe Olives from Spain: Antidumping Duty Order, 83 FR 37465 (August 1, 2018) (Order); see also Ripe Olives from Spain: Notice of Correction to Antidumping Duty Order, 83 FR 39691 (August 10, 2018) (Order).

The products covered by the Order are ripe olives from Spain. For a full description of the scope of the Order, see the Issues and Decision Memorandum.⁷

⁷ See Memorandum, “Issues and Decision Memorandum for the Final Results of Antidumping Duty Administrative Review: Ripe Olives from Spain; 2020-2021,” dated concurrently with, and hereby adopted by, this notice (Issues and Decision Memorandum).

Analysis of Comments Received

All issues raised in the case and rebuttal briefs that were submitted by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

We made no changes to our calculations for the final results of review.

Final Determination of No Shipments

We preliminary found that Dcoop had no shipments of subject merchandise during the POR.⁸ No party commented on the Preliminary Results regarding the no-shipments decision with respect to Dcoop. Therefore, for the final results, we continue to find that Dcoop had no shipments of subject merchandise during the POR and will issue appropriate instructions to U.S. Customs and Border Protection (CBP) based on the final results.

⁸ See Preliminary Results, 87 FR at 34842.

Rate for Non-Examined Companies

In the Preliminary Results, Commerce calculated weighted-average dumping margins for the mandatory respondents, Agro Sevilla and Camacho, that are not zero, de minimis, or determined entirely on the basis of facts available.⁹ No party commented on the Preliminary Results regarding the rates assigned to non-examined respondents and we have made no changes to the margin calculations for the mandatory respondents. Therefore, in accordance with section 735(c)(5)(A) of the Act, Commerce assigned to the companies not individually examined, listed in the chart below, a margin of 2.87 percent which is the weighted-average of Agro Sevilla's and Camacho's calculated weighted-average dumping margins for these final results.¹⁰

⁹ Id.

¹⁰ For more information regarding the calculation of this margin, see Memorandum, “Ripe Olives from Spain: Calculation of the Preliminary Margin for Respondents Not Selected for Individual Examination,” dated June 3, 2022. As the weighting factor, we relied on the publicly ranged sales data reported in the quantity and value charts submitted by Agro Sevilla and Camacho.

Final Results of Review

Commerce determines that the following weighted-average dumping margins exist for the period August 1, 2020, through July 31, 2021:

Producer or exporter | Weighted- average dumping margin (percent)
Agro Sevilla Aceitunas, S. Coop. And | 1.84
Angel Camacho Alimentacion, S.L | 4.56
Aceitunas Guadalquivir, S.L.U | 2.87
Aceitunas Torrent, S.L | 2.87

Disclosure

Normally, Commerce discloses to the parties in a proceeding the calculations performed in connection with final results of review within five days after public announcement of final results.¹¹ However, because Commerce made no adjustments to the margin calculation methodology used in the Preliminary Results, there are no calculations to disclose for the final results of review.

¹¹ See 19 CFR 351.224(b).

Assessment Rates

Pursuant to section 751(a)(2)(C) of the Act and 19 CFR 351.212(b), Commerce will determine, and CBP shall assess, antidumping duties on all appropriate entries of subject merchandise in accordance with the final results of this review. Because the weighted-average dumping margins for Agro Sevilla and Camacho are not zero or de minimis (i.e., less than 0.5 percent) in the final results of this review, we calculated an importer-specific assessment rate based on the ratio of the total amount of dumping calculated for each importer's examined sales and the total entered value of those same sales in accordance with 19 CFR 351.212(b)(1).¹² The final results of this administrative review shall be the basis for the assessment of antidumping duties on entries of merchandise covered by the final results of this review and for future deposits of estimated duties, where applicable.¹³

¹² In these final results, Commerce applied the assessment rate calculation method adopted in Antidumping Proceedings: Calculation of the Weighted-Average Dumping Margin and Assessment Rate in Certain Antidumping Duty Proceedings; Final Modification, 77 FR 8101 (February 14, 2012).

¹³ See section 751(a)(2)(C) of the Act.

For entries of subject merchandise during the POR produced by either of the individually examined respondents for which they did not know that the merchandise was destined for the United States, we will instruct CBP to liquidate these entries at the all-others rate if there is no rate for the intermediate company(ies) involved in the transaction.¹⁴ For the companies identified above that were not selected for individual examination, we will instruct CBP to liquidate entries at the rates established after the completion of the final results of review.

¹⁴ For a full discussion of this practice, see Antidumping and Countervailing Duty Proceedings: Assessment of Antidumping Duties, 68 FR 23954 (May 6, 2003).

Because we have determined that Dcoop had no shipments of subject merchandise in this review, Commerce will instruct CBP to liquidate any suspended entries that entered under Dcoop's case number (i.e., at Dcoop's cash deposit rate) at the all-others rate (i.e., 19.98 percent).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of ripe olives from Spain entered, or withdrawn from warehouse, for consumption on or after the date of publication as provided by section 751(a)(2) of the Act: (1) the cash deposit rate for companies subject to this review will be equal to the weighted-average dumping margins established in the final results of the review; (2) for merchandise exported by companies not covered in this review but covered in a prior segment of this proceeding, the cash deposit rate will continue to be the company-specific rate published in the completed segment for the most recent period; (3) if the exporter is not a firm covered in this review, a prior review, or the original less-than-fair-value (LTFV) investigation but the producer is, then the cash deposit rate will be the rate established in the completed segment for the most recent period for the producer of the merchandise; and (4) the cash deposit rate for all other producers or exporters will continue to be 19.98 percent,¹⁵ the all-others rate established in the LTFV investigation. These cash deposit requirements, when imposed, shall remain in effect until further notice.

¹⁵ See Ripe Olives from Spain: Final Affirmative Determination of Sales at Less Than Fair Value, 83 FR 28193 (June 18, 2018).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act and 19 CFR 351.221(b)(5).

Dated: December 5, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether to Reject Agro Sevilla's Revisions and Corrections to Sales and Cost Data as Untimely and Unsolicited and Apply Partial Adverse Facts Available (AFA) to Unreported U.S. Sales

Comment 2: Agro Sevilla's Verification Corrections

Comment 3: Camacho's Adjustment to Cost for Purchase of Certain Sales

VI. Recommendation

[FR Doc. 2022-26782 Filed 12-8-22; 8:45 am]

BILLING CODE 3510-DS-P